DEPARTMENT OF HOMELAND SECURITY

U. S. Customs and Border Protection

19 CFR Part 141

[USCBP-2008-0062; CBP Dec. 10-34]

RIN 1515-AD61 (Formerly 1505-AB96)

Technical Correction: Completion of Entry and Entry Summary—Declaration of Value; Correction

AGENCY: Customs and Border Protection, Department of Homeland Security.

ACTION: Final rule; correction.

SUMMARY: Customs and Border Protection (CBP) published in the Federal Register of December 30, 2010, a document concerning technical corrections to part 141 of title 19 of the CBP Regulations (19 CFR part 141). Inadvertently, an erroneous CBP Decision Number was listed in the heading of that document. This document corrects the December 30, 2010 document to reflect that the correct CBP Decision Number is 10-34 as set forth above.

DATES: The final rule is effective February 14, 2011.

FOR FURTHER INFORMATION CONTACT: Michele J. Snavely, Regulations and Rulings, Office of International Trade, (202) 325-0354.

Correction

In rule document 2010-32912 beginning on page 82241 in the issue of Thursday, December 30, 2010, make the following correction in the third column:

Remove in the heading of the document “CBP Dec. 10-33” and add in its place “CBP Dec. 10-34”.

Dated: February 9, 2011.
Harold M. Singer,
Director, Regulations and Disclosure Law Division, U.S. Customs and Border Protection.

[FR Doc. 2011-3265 Filed 2-11-11; 8:45 am]

BILLING CODE 9111-14-P